NUCLEAR REGULATORY COMMISSION

[Docket No. 50-327 and 50-328; NRC-2013-0037]

License Renewal for Sequoyah Nuclear Plant, Units 1 and 2

AGENCY: Nuclear Regulatory Commission.

ACTION: License renewal and record of decision; issuance.

SUMMARY: The U.S. Nuclear Regulatory Commission (NRC) has issued renewed facility operating licenses Nos. DPR-77 and DPR-79 to Tennessee Valley Authority, the operator of the Sequoyah Nuclear Plant, Units 1 and 2 (SQN). Renewed facility operating licenses Nos. DPR-77 and DPR-79 authorize operation of SQN by the licensee at reactor core power levels not in excess of 3455 megawatts thermal, in accordance with the provisions of the SQN renewed licenses and technical specifications. In addition, the NRC has prepared a record of decision (ROD) that supports the NRC's decision to renew facility operating licenses Nos. DPR-77 and DPR-79.

DATES: The license renewal of facility operating licenses Nos. DPR-77 and DPR-79 were effective on September 28, 2015.

ADDRESSES: Please refer to Docket ID NRC-2013-0037 when contacting the NRC about the availability of information regarding this document. You may obtain publicly-available information related to this document using any of the following methods:

• Federal Rulemaking Web site: Go to http://www.regulations.gov and search for Docket ID NRC-2013-0037. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Emmanuel Sayoc, Office of Nuclear Reactor Regulation, U.S. Nuclear Regulatory Commission, Washington, DC 20555; telephone: 301-415-4084; email: Emmanuel.Sayoc@nrc.gov.

SUPPLEMENTARY INFORMATION: Notice is hereby given that the NRC has issued renewed facility operating licenses Nos. DPR-77 and DPR-79 to Tennessee Valley Authority, the operator of SQN. Renewed facility operating licenses Nos. DPR-77 and DPR-79 authorize operation of SQN by the licensee at reactor core power levels not in excess of 3455 megawatts thermal, in accordance with the provisions of the SQN renewed licenses and technical specifications. The NRC's ROD that supports the NRC's decision to renew facility operating licenses Nos. DPR-77 and DPR-79 is available in ADAMS under Accession No. ML15104A689. As discussed in the ROD and the final supplemental environmental impact statement (FSEIS) for SQN, Supplement 53 to NUREG-1437, “Generic Environmental Impact Statement for License Renewal of Nuclear Plants Regarding Sequoyah Nuclear Plant, Units 1 and 2,” dated March 2015 (ADAMS Accession No. ML15075A438), the NRC has considered a range of reasonable alternatives that included natural gas combined-cycle, supercritical pulverized coal, new nuclear, wind and solar power, and the no action alternative. The ROD and FSEIS document the NRC's determination in its environmental review that the adverse environmental impacts of license renewal for SQN are not so great that preserving the option of license renewal for energy planning decision makers would be unreasonable.

SQN is a dual pressurized water reactor nuclear steam supply system, with four coolant loops for each unit, and located approximately 9.5 miles northeast of Chattanooga, Tennessee. The application for the renewed license, “Sequoyah Nuclear Plant, Units 1 and 2, License Renewal Application,” dated January 7, 2013 (ADAMS Accession No. ML130240007), as supplemented by letters dated through August 17, 2015, complied with the standards and requirements of the Atomic Energy Act of 1954, as amended (the Act), and the NRC's regulations. As required by the Act and the NRC's regulations in Chapter 1 of Title 10 of the Code of Federal Regulations, the NRC has made appropriate findings, which are set forth in the license. A public notice of acceptance for docketing of the application and an opportunity for a hearing was published in the Federal Register on March 5, 2013 (78 FR 14362).

For further details with respect to this action, see: (1) Tennessee Valley Authority license renewal application for Sequoyah Nuclear Plant, Units 1 and 2, dated January 7, 2013, as supplemented by letters dated through August 17, 2017; (2) the NRC's safety evaluation report published in January 2015 (ADAMS Accession No. ML15021A356); (3) the NRC's final environmental impact statement (NUREG-1437, Supplement 53) for Sequoyah Nuclear Plant, Units 1 and 2, published in March 2015; and (4) the NRC's ROD.

Dated at Rockville, Maryland, this 28th day of September, 2015.
For the Nuclear Regulatory Commission.
Christopher G. Miller,
Director, Division of License Renewal, Office of Nuclear Reactor Regulation.

[FR Doc. 2015-25128 Filed 10-1-15; 8:45 am]

BILLING CODE 7590-01-P